DEPARTMENT OF THE INTERIOR

National Park Service

[NPS-WASO-NAGPRA-NPS0031762; PPWOCRADN0-PCU00RP14.R50000]

Notice of Inventory Completion: Arizona Museum of Natural History, Mesa, AZ; Correction

AGENCY: National Park Service, Interior.

ACTION: Notice; correction.

SUMMARY: The Arizona Museum of Natural History has corrected an inventory of human remains, published in a Notice of Inventory Completion in the Federal Register on May 14, 2020. This notice corrects the minimum number of individuals. Lineal descendants or representatives of any Indian Tribe or Native Hawaiian organization not identified in this notice that wish to request transfer of control of these human remains should submit a written request to the Arizona Museum of Natural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Arizona Museum of Natural History at the address in this notice by May 24, 2021.

ADDRESSES: Ms. Melanie Deer, Arizona Museum of Natural History, 53 N MacDonald, Mesa, AZ 85201, telephone (480) 644-4381, email melanie.deer@mesaaz.gov.

SUPPLEMENTARY INFORMATION: Notice is here given in accordance with the Native American Graves Protection and Repatriation Act (NAGPRA), 25 U.S.C. 3003, of the correction of an inventory of human remains under the control of the Arizona Museum of Natural History, Mesa, AZ. The human remains were removed from AZ.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (85 FR 28978-28979, May 14, 2020). Transfer of control of the items in this correction notice has not occurred.

Correction

In the Federal Register (85 FR 28979, May 14, 2020), column 2, paragraph 1, sentence 1 is corrected by substituting the following sentence:

Prior to 2018, human remains representing, at minimum, 12 individuals were removed from AZ.

In the Federal Register (85 FR 28979, May 14, 2020), column 2, paragraph 5, sentence 1 under the heading “Determinations Made by the Arizona Museum of Natural History” is corrected by substituting the following sentence:

Pursuant to 25 U.S.C. 3001(9), the human remains described in this notice represent the physical remains of 99 individuals of Native American ancestry.

Additional Requestors and Disposition

Lineal descendants or representatives of any Indian Tribe or Native Hawaiian organization not identified in this notice that wish to request transfer of control of these human remains should submit a written request with information in support of the request to Ms. Melanie Deer, Arizona Museum of Natural History, 53 N MacDonald, Mesa, AZ 85201, telephone (480) 644-4381, email melanie.deer@mesaaz.gov, by May 24, 2021. After that date, if no additional requestors have come forward, transfer of control of the human remains to The Tribes may proceed.

The Arizona Museum of Natural History is responsible for notifying The Tribes that this notice has been published.

Dated: April 15, 2021.
Melanie O'Brien,
Manager, National NAGPRA Program.

[FR Doc. 2021-08400 Filed 4-21-21; 8:45 am]

BILLING CODE 4312-52-P